ENVIRONMENTAL PROTECTION AGENCY

40 CFR Parts 141 and 142

[FRL-9641-3]

Long Term 2 Enhanced Surface Water Treatment Rule: Uncovered Finished Water Reservoirs; Public Meeting

AGENCY: Environmental Protection Agency (EPA).

ACTION: Notice of public meeting.

SUMMARY: The Environmental Protection Agency (EPA) is hosting a public meeting on April 24, 2012, concerning information that may inform the regulatory review of the uncovered finished water reservoir requirement in the Long Term 2 Enhanced Surface Water Treatment Rule (LT2 rule). At this meeting, EPA will provide background information on the LT2 rule's uncovered finished water reservoir requirement and the agency's Six Year Review process. EPA also plans to discuss and solicit public input on data and information related to microbial occurrence of Cryptosporidium, Giardia, viruses, and other pathogens/indicators in uncovered finished water reservoirs; public health risks; strategies to control or remove contaminants in uncovered finished water reservoirs; and potential assessment approaches to determine the effectiveness of these control and/or removal strategies. The primary focus of this meeting is to have a scientific and technical discussion related to uncovered finished water reservoirs. EPA will consider the data and/or information discussed at this meeting during the agency's review of the LT2 rule, which the agency announced as part of EPA's Retrospective Review Plan under Executive Order (E.O.) 13563 in August 2011.

DATES: The public meeting will be held on Tuesday, April 24, 2012 (8 a.m. to 5 p.m., Eastern Time).

ADDRESSES: The public meeting will be held at the EPA East Building, Room 1153, 1201 Constitution Avenue NW., Washington, DC 20460.

FOR FURTHER INFORMATION CONTACT: For technical inquiries, contact, César Cordero, Standards and Risk Management Division, Office of Ground Water and Drinking Water (MC 4607M), Environmental Protection Agency, 1200 Pennsylvania Ave. NW., Washington, DC 20460 at (202) 564-3716 or cordero.cesar@epa.gov. For more information about the LT2 rule or the Six Year Review Process, visit: http://water.epa.gov/lawsregs/rulesregs/sdwa/lt2/ or http://water.epa.gov/lawsregs/rulesregs/regulatingcontaminants/sixyearreview/index.cfm.

SUPPLEMENTARY INFORMATION: The purpose of the LT2 rule, promulgated in 2006, is to reduce disease incidence associated with Cryptosporidium and other disease-causing microorganisms in drinking water. The rule includes requirements for public water systems to either cover an uncovered finished water storage facility or treat the storage facility discharge to address the risk of contamination. The 1996 Amendments to the Safe Drinking Water Act (SDWA) require EPA to review its existing drinking water regulations every six years. SDWA (Section 1412(b)(9)) specifies that any revision to a national primary drinking water regulation “shall maintain, or provide for greater, protection of the health of persons.” In response to E.O. 13563, EPA announced in the August 2011 document, Improving Our Regulations: Final Plan for Periodic Review Retrospective Reviews of Existing Regulations, that the agency would review the LT2 rule. As part of the review, EPA plans to analyze information and data to evaluate the approaches for managing risks related to uncovered finished water reservoirs while “maintaining, or providing for greater, protection of the health of persons” as specified in SDWA.

The public meeting announced in this notice will be the second meeting related to the LT2 rule hosted by the agency in response to E.O. 13563. The first meeting occurred on December 7, 2011, and focused on analytical methods for Cryptosporidium and the source water monitoring data from the LT2 rule.

This meeting is open to the public. EPA encourages public input and will allocate time on the agenda to receive verbal statements. EPA requests that participants limit statements to the topics described in the SUMMARY section of this notice and will hold participants to a set timeframe for their statements. EPA also requests that only one person present a statement on behalf of a group or organization. Individuals or organizations interested in presenting a statement should notify César Cordero by email at cordero.cesar@epa.gov no later than April 20, 2012. Individuals that have scientific data that they would like EPA to consider during regulatory review of the uncovered finished water reservoir requirement are encouraged to email their data to César Cordero. It would be helpful to have the data in advance of the public meeting.

Registration: Individuals planning to participate in the public meeting must register for the meeting by email at LT2Aprilmeeting@epa.gov no later than April 20, 2012. Teleconferencing will be available for individuals unable to attend the meeting in person. EPA will do its best to include all those interested, but may have to limit attendance due to room and/or teleconference size limitations and therefore urges people to register early. When registering, please include your full name, organization, phone number, and email address in the body of the email message and indicate whether you would be participating in person or via teleconference. Teleconference information will be emailed to registered participants in advance of the meeting.

Special Accommodations: For information on access or accommodations for individuals with disabilities, please contact Jini Mohanty at (202) 564-5269 or by email at mohanty.jini@epa.gov. Please allow at least five business days prior to the meeting to give EPA time to process your request.

Dated: February 24, 2012.
Cynthia C. Dougherty,
Director, Office of Ground Water and Drinking Water.

[FR Doc. 2012-4825 Filed 2-28-12; 8:45 am]

BILLING CODE 6560-50-P